FEDERAL COMMUNICATIONS COMMISSION

47 CFR Part 73

[DA 00-371; MM Docket No. 99-245; RM-9680]

Radio Broadcasting Services; Johnson City and Owego, NY

AGENCY: Federal Communications Commission.

ACTION: Final rule.

SUMMARY: The Commission, at the request of WEBO Radio, Inc., reallots Channel 269A from Owego to Johnson City, NY, as the community's first local aural service, and modifies the license of Station WLTB to specify Johnson City as its community of license. See 64 FR 37924, July 14, 1999. Channel 269A can be allotted to Johnson City in compliance with the Commission's minimum distance separation requirements with a site restriction of 6.4 kilometers (4.0 miles) south, at coordinates 42-03-44 North Latitude and 75-56-37 West Longitude, to avoid a short-spacing to Station WXHC, Channel 268A, Homer, NY, and to accommodate petitioner's desired transmitter site. Canadian concurrence in the allotment has been obtained since Johnson City is located within 320 kilometers (200 miles) of the U.S.-Canadian border.

DATES: Effective April 10, 2000.

FOR FURTHER INFORMATION CONTACT: Leslie K. Shapiro, Mass Media Bureau, (202) 418-2180.

SUPPLEMENTARY INFORMATION: This is a synopsis of the Commission's Report and Order, MM Docket No. 99-245, adopted February 16, 2000, and released February 24, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under New York, is amended by removing Channel 269A at Owego, and adding Johnson City, Channel 269A.

Federal Communications Commission.
John A. Karousos,
Chief, Allocations Branch, Policy and Rules Division, Mass Media Bureau.

[FR Doc. 00-5136 Filed 3-2-00; 8:45 am]

BILLING CODE 6712-01-P